NUCLEAR REGULATORY COMMISSION

[Docket No. 72-17]

Portland General Electric Company, Trojan Independent Spent Fuel Storage Installation; Notice of Docketing of Materials License SNM-2509 Amendment Application

By letter dated December 9, 2003, Portland General Electric Company (PGE) submitted an application to the Nuclear Regulatory Commission (NRC or the Commission), in accordance with 10 CFR part 72, requesting the amendment of the Trojan Independent Spent Fuel Storage Installation (ISFSI) license (SNM-2509) and the Technical Specifications for the ISFSI located at Columbia County, Oregon. PGE is seeking Commission approval to amend the materials license and the ISFSI Technical Specifications to reflect completion of dry storage cask loading operations and incorporation of an administrative change to the Trojan ISFSI Technical Specifications to conform to a recent NRC Final Rule, “Event Notification Requirements,” (63 FR 33611 dated June 5, 2003).

This application was docketed under 10 CFR part 72; the ISFSI Docket No. is 72-17 and will remain the same for this action. The amendment of an ISFSI license is subject to the Commission's approval.

The Commission may issue either a notice of hearing or a notice of proposed action and opportunity for hearing in accordance with 10 CFR 72.46(b)(1) or, if a determination is made that the amendment does not present a genuine issue as to whether public health and safety will be significantly affected, take immediate action on the amendment in accordance with 10 CFR 72.46(b)(2) and provide notice of the action taken and an opportunity for interested persons to request a hearing on whether the action should be rescinded or modified.

For further details with respect to this amendment, see the application dated December 9, 2003, which is publically available in the records component of NRC's Agencywide Documents Access and Management System (ADAMS). The NRC maintains ADAMS, which provides text and image files of NRC's public documents. These documents may be accessed through the NRC's Public Electronic Reading Room on the Internet at http://www.nrc.gov/reading-rm/adams.html. If you do not have access to ADAMS or if there are problems in accessing the documents located in ADAMS, contact the NRC Public Document Room (PDR) Reference staff at 1-800-397-4209, 301-415-4737 or by email to pdr@nrc.gov.

Dated at Rockville, Maryland, this 31st day of December, 2003.
For the Nuclear Regulatory Commission.
Christopher M. Regan,
Project Manager, Spent Fuel Project Office, Office of Nuclear Material Safety and Safeguards.

[FR Doc. 04-790 Filed 1-13-04; 8:45 am]

BILLING CODE 7590-01-P